DEPARTMENT OF ENERGY

Federal Energy Regulatory Commission

[Project No. 14989-000]

Pumped Hydro Storage LLC; Notice of Preliminary Permit Application Accepted for Filing and Soliciting Comments, Motions To Intervene, and Competing Applications

On October 8, 2019, Pumped Hydro Storage LLC filed an application for a preliminary permit, pursuant to section 4(f) of the Federal Power Act (FPA), proposing to study the feasibility of the Montezuma Pumped Storage Project (Montezuma Project or project) to be located near Maricopa, Pinal County, Arizona. The sole purpose of a preliminary permit, if issued, is to grant the permit holder priority to file a license application during the permit term. A preliminary permit does not authorize the permit holder to perform any land-disturbing activities or otherwise enter upon lands or waters owned by others without the owners' express permission.

The proposed project would consist of the following: (1) A new rockfill, concrete-face impoundment, 3,000 feet by 110 feet creating an upper reservoir with a maximum elevation of 3,000 feet above mean sea level (MSL), and a usable storage capacity of 9,500 acre-feet; (2) a new rockfill, concrete-face impoundment, 4,000 feet by 130 feet creating a lower reservoir with a maximum elevation of 1,350 feet MSL, and a usable storage capacity of 9,500 acre-feet; (3) two 32-foot-diameter, 7,000-foot-long reinforced concrete penstocks; (4) a powerhouse constructed of reinforced concrete with approximate dimensions of 900 feet by 150 feet and 150 feet high, and containing six turbine-generator units with a total installed capacity of 2100 megawatts; (5) a tailrace constructed of reinforced concrete with approximate dimensions of 1,200 feet by 50 feet by 50 feet; (6) a 500-kilovolt substation; (7) a 500-kilovolt, 11-mile-long transmission line; (8) a 500-kilovolt, 8-mile-long transmission line; (9) one 24-inch-diameter, ductile iron pipe pipeline connecting the project to the existing City of Phoenix 91st Avenue Wastewater Treatment Plant; (10) one 24-inch-diameter, ductile iron pipe pipeline connecting the project to the existing Salt River Project irrigation canal; (11) one 24-inch-diameter, ductile iron pipe pipeline connecting the project to the existing Gila River Indian Community irrigation canal; (12) one 24-inch-diameter, ductile iron pipe pipeline connecting the project to a new water supply well in Santa Cruz Wash; (13) one steel casing water supply well in Santa Cruz wash rated at 2,000 gallons-per-minute; (14) one 1-million-gallon steel overflow tank; (15) six agricultural fields, 2-square-miles in area, that would be irrigated with excess water from the steel overflow tank; and (16) appurtenant facilities. The proposed project would produce about 9,600 megawatt hours of energy daily. The estimated annual generation of the Montezuma Project would be 3,504 gigawatt-hours.

Applicant Contact: Mr. Steve Irwin, Pumped Hydro Storage LLC, 6514 41st Lane, Phoenix, AZ 85041; phone: (602) 696-3608.

FERC Contact: Evan Williams; phone: (202) 502-8462.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14804-000.

More information about this project, including a copy of the application, can be viewed or printed on the eLibrary link of Commission's website at http://www.ferc.gov/docs-filing/elibrary.asp. Enter the docket number (P-14989) in the docket number field to access the document. For assistance, contact FERC Online Support.

Dated: December 2, 2019.
Kimberly D. Bose,
Secretary.

[FR Doc. 2019-26343 Filed 12-5-19; 8:45 am]

BILLING CODE 6717-01-P